Title 3—

The President

Proclamation 8381 of May 15, 2009

National Safe Boating Week, 2009

By the President of the United States of America

A Proclamation

Each year, millions of Americans take to our Nation's waterways for recreational boating. Whether paddling down a rushing river or cruising on a serene lake, boaters are attracted to the incomparable feeling of being out on the water. They also are drawn by opportunities to exercise, appreciate nature, enjoy quiet solitude, or relax with family and friends.

Unfortunately, accidents can occur as Americans participate in this popular pastime. Many serious incidents are preventable, and during National Safe Boating Week, I ask Americans to learn more about how to enjoy our Nation's waters safely and responsibly.

Simple steps can greatly reduce the chances of an accident. In preparation for the boating season, Americans can take boating safety courses and get a free vessel safety check. These steps can help prevent problems before they happen and prepare boaters for problems that may occur while on the water. Boaters should also wear a Coast Guard-approved life jacket and never boat under the influence of drugs or alcohol. These critical precautions can save lives and help ensure a fulfilling experience.

Each year during this week, the United States Coast Guard partners with organizations to educate and inform the public about safe boating. I join them in calling upon Americans to protect themselves and others while boating.

Recognizing the importance of safe boating practices, the Congress, by joint resolution approved June 4, 1958 (36 U.S.C. 131), as amended, has authorized and requested the President to annually proclaim the 7-day period prior to Memorial Day weekend as “National Safe Boating Week.”

NOW, THEREFORE, I, BARACK OBAMA, President of the United States of America, do hereby proclaim May 16 through May 22, 2009, as National Safe Boating Week. I encourage all Americans to join in observing this occasion by learning more about boating safety and committing themselves to safe practices on the water.

IN WITNESS WHEREOF, I have hereunto set my hand this fifteenth day of May, in the year of our Lord two thousand nine, and of the Independence of the United States of America the two hundred and thirty-third.

[FR Doc. E9-11919

Filed 5-19-09; 8:45 am]

Billing code 3195-W9-P